EXECUTIVE OFFICE OF THE PRESIDENT

Office of National Drug Control Policy

Appointment of Members of Senior Executive Service Performance Review Board

AGENCY: Office of National Drug Control Policy (ONDCP).

ACTION: Notice of appointments.

SUMMARY: The following persons have been appointed to the ONDCP Senior Executive Service Performance Review Board: Ms. Michele Marx (as Chair), Ms. Debbie Seguin, Ms. Shannon Kelly, and Mr. Kemp Chester.

FOR FURTHER INFORMATION CONTACT: Please direct any questions to Anthony Jones, Acting General Counsel, (202) 881-8862, Office of National Drug Control Policy, Executive Office of the President, Washington, DC 20503.

Authority: 5 U.S.C. 4314(c)(1)

Dated: May 8, 2025.
Anthony Jones,
Acting General Counsel.

[FR Doc. 2025-08404 Filed 5-12-25; 8:45 am]

BILLING CODE 3280-F5-P